FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 23, 2015.

A. Federal Reserve Bank of Atlanta (Chapelle Davis, Assistant Vice President) 1000 Peachtree Street NE., Atlanta, Georgia 30309:

1. Robert Lee Pike, Jr., Panama City, Florida, and the RLP 2012 Children's Trust, Panama City, Florida with Johnna Lombard, Manhasset, New York, as Trustee; to acquire voting shares of PrimeSouth Bancshares, Inc., and thereby indirectly acquire voting shares of PrimeSouth Bank, both in Tallassee, Alabama.

B. Federal Reserve Bank of Chicago (Colette A. Fried, Assistant Vice President) 230 South LaSalle Street, Chicago, Illinois 60690-1414:

1. Robert F. Hingst, Trustee of Robert F. Hingst GST Trust; Robert F. Hingst GST Trust; together with William H. Hingst, Trustee of William H. Hingst GST Trust and Trustee of the William H. Hingst Living Trust; William H. Hingst GST Trust and William H. Hingst Living Trust; Robert F. Hingst and Mary M. Hingst, Co Trustees of Mary M. Hingst Living Trust; Mary M. Hingst Living Trust; John C. Hingst; Katherine H. Hingst, all of Kokomo, Indiana; Theodore J. Hingst, Trustee of Theodore J. Hingst GST Trust and Trustee of Ted Hingst Living Trust; Theodore J. Hingst GST Trust and Ted Hingst Living Trust, all of Lafayette, Indiana, as a group acting in concert; to retain voting shares of Community First Financial Corporation, and thereby indirectly acquire voting shares of Community First Bank of Indiana, both in Kokomo, Indiana.

C. Federal Reserve Bank of Minneapolis (Jacquelyn K. Brunmeier, Assistant Vice President) 90 Hennepin Avenue, Minneapolis, Minnesota 55480-0291:

1. Austin D. McLaen and Matthew S. McLaen, both of Forman, North Dakota, both to remain members of the McLaen family shareholder group, and retain voting shares of Sargent Bankshares, Inc., and thereby indirectly retain voting shares of Sargent County Bank, both in Forman, North Dakota.

Board of Governors of the Federal Reserve System, December 3, 2015.
Michael J. Lewandowski,
Associate Secretary of the Board.

[FR Doc. 2015-30870 Filed 12-7-15; 8:45 am]

BILLING CODE 6210-01-P